DEPARTMENT OF THE INTERIOR

Bureau of Land Management

[BLM_CO_FRN_MO4500169571]

Notice of New Recreation Fees on Public Lands in the Colorado River Valley Field Office, Colorado

AGENCY: Bureau of Land Management, Interior.

ACTION: Notice of new fees.

SUMMARY: Pursuant to the Federal Lands Recreation Enhancement Act (FLREA), the Bureau of Land Management (BLM), Colorado River Valley Field Office (CRVFO) has established expanded (overnight/specialized use) amenity fees at the Gypsum, Catamount, Pinball, Lyon's Gulch, and Upper and Lower Prince Creek Campgrounds. The CRVFO has also established a standard amenity fee (day-use) at the Wolcott Day-Use Site.

DATES: New fees will take effect on February 8, 2024.

ADDRESSES: Documents concerning these new fees may be reviewed at the Colorado River Valley Field Office, 2300 River Frontage Road, CO 81652; phone: (970) 876-9000; and online at: https://www.blm.gov/office/colorado-river-valley-field-office. The recreation fee business plan is available at: https://www.blm.gov/sites/blm.gov/files/Business%20Plan%20FINAL_12-16-19.pdf.

FOR FURTHER INFORMATION CONTACT: Hilary Boyd, Assistant Field Manager, telephone: (970) 876-9003, email: hboyd@blm.gov. Individuals in the United States who are deaf, deafblind, hard of hearing, or have a speech disability may dial 711 (TTY, TDD, or TeleBraille) to access telecommunications relay services for contacting the BLM. Individuals outside the United States should use the relay services offered within their country to make international calls to the point-of-contact in the United States.

SUPPLEMENTARY INFORMATION: This notice provides public notice that the BLM CRVFO has established recreation fees at campgrounds and the Wolcott Day-Use Site as follows: expanded amenity campground fees of $20 per campsite per night will be charged at the Catamount, Pinball, Lyon's Gulch, and Upper and Lower Prince Creek Campgrounds. Individual campsites can have up to nine people, two vehicles, and two tents per site.

A $4 per person per night fee will be charged for use of group campsites at the Gypsum, Lyon's Gulch, and Upper and Lower Prince Creek Campgrounds. A $40 minimum fee, covering up to 10 people, is established to reserve a group site. The minimum group site fee will apply toward the total amount due. The maximum occupancy of a group site is 25 people.

A $5 per vehicle per day standard amenity fee will be charged at the Wolcott Day-Use Site.

Campground and day-use fee information will be posted at each recreation site, available at the CRVFO, and available online through BLM websites.

To keep up with rising management and maintenance costs, the CRVFO will implement the new fee structure and the following year will begin using the average annual Western U.S. Consumer Price Index (CPI) to make future fee adjustments. The BLM will use the CPI the year after the collection of fees is implemented. When the increase or decrease reaches a $1 increment for per person fees or a $2 increment for campsite fees, the fees would be adjusted accordingly. For example, with a $20 fee for individual campsites, a 10 percent increase in the Western U.S. CPI would lead to a $2 increase in fees to $22. Typically, the Western U.S. CPI increases approximately 3 percent a year. Thus, it would likely take 4 years to increase the fees by $2. For group sites, a 25 percent increase in the Western U.S. CPI would lead to a $1 increase. The BLM would return to the BLM Northwest Resource Advisory Council (RAC) before each fee increase to update the RAC on successes and challenges in using the Western U.S. CPI.

All visitors holding an America the Beautiful—National Parks and Federal Recreational Lands pass (Annual, Senior, Access, Military, Fourth Grade, etc.) will be entitled to free standard amenity fees at locations charging these fees. People holding the America the Beautiful—National Parks and Federal Recreational Lands “Annual Senior Pass,” “Senior Lifetime Pass,” or “Access Pass” (or Golden Age or Access passes) may be provided a 50 percent discount on some expanded amenity fees, except those associated with group reservations.

FLREA provides authority for the Secretaries of the Interior and Agriculture to establish, modify, charge, and collect recreation fees for use of some Federal recreation lands and waters, and contains specific provisions addressing public involvement in the establishment of recreation fees. FLREA also directs the Secretaries of the Interior and Agriculture to publish 6 months' advance notice in the Federal Register whenever recreation fee areas are established under their respective jurisdictions.

Under section 803(g)(2)(A) and (C) of FLREA, developed campgrounds and rental cabins qualify as sites wherein visitors can be charged an “Expanded Amenity Recreation Fee.” Pursuant to FLREA and implementing regulations at 43 CFR 2933, fees may be charged for overnight camping, rental of cabins, and group use reservations where specific amenities and services are provided. Specific visitor fees will be identified and posted at each campground, day-use site, or rental cabin.

Under section 803(f)(4) of FLREA, all day-use sites in this notice qualify as areas wherein visitors can be charged a “Standard Amenity Recreation Fee.” Pursuant to FLREA and implementing regulations at 43 CFR 2933, fees may be charged for an area where there are significant opportunities for outdoor recreation, that has substantial Federal investments, where fees can be efficiently collected, and that contains specific amenities and services. Specific visitor fees will be identified and posted at each day-use site.

In response to increasing recreation demands and visitation on BLM lands, the CRVFO developed a recreation fee business plan. The business plan reviewed campgrounds and day-use sites where new Standard and Expanded Amenity Recreation Fees are needed to maintain visitor facilities and visitor services, replace aging infrastructure, and improve access to recreational opportunities. The business plan explains: (1) consistency with the BLM recreation fee program policy; (2) the CRVFO recreation management direction; (3) the need for fee collection; (4) how the fees will be used at the sites; (5) Resource Advisory Council coordination; and (6) guidance on future fee increases. As analyzed in the business plan, the recreation use fees are consistent with other nearby Federal land management agency fees and are lower than the fees charged at privately owned campgrounds. The business plan is available upon request to the CRVFO and at the CRVFO website (see ADDRESSES).

The BLM notified and involved the public at each stage of this process. A public comment period on the draft business plan, announced via news release, ran from December 11, 2018, to January 25, 2019. The final business plan was signed on December 16, 2019. Public notices were posted at each recreation site during the 2019 use season. The CRVFO contacted local special recreation permit holders who might be affected. Local governments were contacted and both Eagle and Pitkin counties provided letters of support for the fee increases. Following FLREA guidelines, the BLM Northwest Resource Advisory Council approved the proposed fee structure on June 13, 2019.

Authority: 16 U.S.C. 6803 and 43 CFR 2933.

Douglas J. Vilsack,
BLM Colorado State Director.

[FR Doc. 2023-16864 Filed 8-7-23; 8:45 am]

BILLING CODE 4331-16-P